DEPARTMENT OF JUSTICE

Notice of Proposed Consent Decree in United States v. DaimlerChrysler Corporation

Pursuant to 28 CFR 50.7, notice is hereby given that on December 21, 2005, a proposed Consent Decree was lodged with the United States District Court for the District of Columbia in the case of United States v. DaimlerChrysler Corporation, Civil Action No. 05-2440.

The proposed Consent Decree settles the United States' claims against DaimlerChrysler Corporation (“Chrysler”) for injunctive relief and civil penalties under the Clean Air Act, as amended, 42 U.S.C. 7401 et seq. (the “Act”), arising from the company's failure to file emission-defect information reports with the U.S. Environmental Protection Agency (“EPA”) with respect to certain model year 1996-2001 Jeep, Dodge Ram, and Dodge Dakota vehicles equipped with potentially defective catalytic converters (the “Catalyst Defect”). The proposed Decree provides for the payment of $1 million in civil penalties, the performance of a supplemental environmental project to reduce emissions from in-use diesel engines at a cost of not less than $3 million, and the implementation of enhanced emission-related defect reporting procedures by Chrysler. The Consent Decree also includes remedial provisions, including extending the warranty covering repair of the Catalyst Defect and a recall to correct a separate defect in the computer-based on-board diagnostic system in certain Chrysler vehicles, resolving potential EPA administrative claims with respect to these defects.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. DaimlerChrysler Corporation, D.J. Ref. 90-5-2-1-08231.

During the public comment period, the Consent Decree may be examined on the following Department of Justice Web site, httpp://www.usdoj.gov/enrd/open/html.

A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $20.50 (25 cents per page reproduction cost of 82 pages) payable to the U.S. Treasury.

Karen Dworkin,
Assistant Chief, Environmental Enforcement Section.

[FR Doc. 06-79 Filed 1-4-06; 8:45 am]

BILLING CODE 4410-15-M